DEPARTMENT OF HOMELAND SECURITY

Coast Guard

33 CFR Part 117

[USCG-2001-10881]

RIN 1625-AA36

Drawbridge Operation Regulations; Amendment

AGENCY: Coast Guard, DHS.

ACTION: Final rule.

SUMMARY: The Coast Guard revises its drawbridge regulations by lengthening the period for which a deviation from published bridge opening requirements is authorized, and by reorganizing and clarifying some provisions. These changes promote intermodal mobility, safety, and security while balancing the reasonable needs of land and marine traffic.

DATES: This rule is effective January 3, 2007.

ADDRESSES: Comments and material received from the public, as well as documents mentioned in this preamble as being available in the docket, are part of docket USCG-2001-10881 and are available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: Mr. Chris Jaufmann, Office of Bridge Administration, United States Coast Guard Headquarters, 202-372-1511. If you have questions on viewing or submitting material to the docket, call Renee V. Wright, Program Manager, Dockets Operations, Department of Transportation, telephone 202-493-0402.

SUPPLEMENTARY INFORMATION:

Regulatory History

On April 17, 2003, we published a notice of proposed rulemaking (NPRM) for this rulemaking (68 FR 18922). We received 11 letters commenting on the NPRM. All comments were addressed in a supplemental notice of proposed rulemaking (SNPRM) published in the Federal Register on May 17, 2006 (71 FR 28629). No comments were received regarding the SNPRM. No public meeting was requested and none was held.

Background and Purpose

The last major update to the drawbridge regulations in 33 CFR Part 117 was in 1984. The Coast Guard determined that updates and clarifications to the present regulations are necessary to meet the competing needs of land and navigational traffic as well as meeting the needs of bridges that have become structurally deficient and functionally obsolete.

Discussion of Changes

The changes made by this final rule are grouped by subject and discussed below.

Deviations

At present, the Coast Guard has two deviations that allow bridge owners to change operating schedules for 60 days for maintenance and repair needs, and up to 90 days to test a new operating schedule. In our final rule, we are consolidating all temporary changes to a drawbridge operating schedule into one of two categories: (1) A deviation, when the temporary change will be for a period of 180 days or less, or; (2) a rulemaking, when the temporary change will be for a period greater then 180 days. This change amends § 117.35 and removes §§ 117.37, 117.43, and 117.45.

This deviation provision would allow the District Commanders the flexibility to maximize waterway use for navigation prior to and during varying weather conditions, repair/maintenance situations, reasons of public health and safety and public events. Any temporary change of an operating schedule lasting greater then 180 days or any permanent change to an operating schedule will require a full rulemaking under the Administrative Procedure Act. This will not affect the bridge owners' responsibility to notify the Coast Guard in a timely manner with their request to change an operating schedule or the discretion of the District Commander to accept the request.

Bridge Owner Responsibility

We are changing the requirements in § 117.7 to clarify the bridge owner's responsibility in maintaining their drawbridges in operable condition.

Appendix A

In the NPRM, the Coast Guard proposed to remove Appendix A to 33 CFR 117 “Drawbridges Equipped with Radiotelephones”. Appendix A provided information that is already contained in other sources and does not need to be repeated in 33 CFR 117. No comments were received regarding this issue so Appendix A is removed. However, the information formerly contained in Appendix A is available on the Bridge Administration (G-PWB) Web site, http://www.uscg.mil/hq/g-o/g-opt/g-opt.htm, and also in the National Oceanographic and Atmospheric Administration's (NOAA) nine volume publication of the “United States Coast Pilot” or on NOAA's Web site. We are also removing a note in § 117.15 that referenced Appendix A.

Definitions

The Coast Guard is adding eight definitions in Subpart A to be used throughout part 117. These definitions clarify the terms “Automated drawbridge”, “Deviation”, “Drawbridge”, Drawspan”, “Public vessel”, “Remotely operated drawbridge”, “Removable drawspan bridge”, and “Untended” in this part. We also reworded the four definitions currently in § 117.4 for plain language.

Lindsey Slough

The Coast Guard is removing the word “maintenance” from § 117.165 thereby requiring any vessel wanting to pass through the removable span bridge, across Lindsey Slough, to give a 72-hour advance notice.

The bridge was constructed in the 1960s and the permit to build the bridge dictated that the drawbridge open for maintenance vessels. A final rule setting a time requirement of 72 hours advance notice for passage was published in the Federal Register on April 24, 1984 (49 FR 17452). At the time of publication, the primary focus was on access for maintenance barges and the term maintenance was included in the rule. However, the removable span has never been removed for any vessel and to do so would require a barge with a crane to be brought in to remove the span. Because the bridge has not had a request to open since 1984, the requirement for all vessels to provide 72-hours advance notice will meet the reasonable needs of navigation and will not cause any undue burden on navigation.

Clarifications

The Coast Guard is adding three new sections to clarify existing requirements in part 117. We are adding § 117.8 to explain how to request a permanent change to the operation of a drawbridge; § 117.36 to more clearly explain the closure requirements of a drawbridge for emergency repair; and § 117.42 to clarify the requirements for remotely operated and automated drawbridges.

The Coast Guard is rewriting the following sections to clarify their requirements: §§ 117.39, 117.41, 117.43, and 117.51.

Consolidations

The Coast Guard is consolidating some sections in part 117 to provide clear guidance of their requirements and to remove redundant language. Sections 117.3 and 117.53 are removed but their substance is reflected in an amended § 117.1. The requirements in § 117.57 are moved to Subpart A and re-designated as § 117.40 since these requirements apply generally to drawbridges operated on advance notice.

Edits

The Coast Guard is making minor corrections and edits, renumbering some sections, and making technical and conforming changes throughout the part. The sections affected are: §§ 117.5, 117.31, 117.55, 117.145, 117.155, and 117.193.

Renumbering

The section headings for §§ 117.486, 117.487, and 117.488 were out of alphabetical order. They have been renumbered under this rule.

Similarly, this rule also redesignates §§ 117.731 and 117.731a as §§ 117.730 and 117.731.

Removals

We are removing “reserved” provisions and redesignating material accordingly in §§ 117.271(b), 117.867, 117.881(b), 117.885, 117.891, and 117.1039.

We are removing references to drawbridges that have been removed from the waterway or replaced by a fixed drawbridge in §§ 117.277, 117.535, 117.739(o) and (p)(2), 117.775, 117.783, 117.795(c), and 117.821(a)(1). Reference to the Federal Street Bridge in § 117.713(a) has been removed because the drawbridge has been replaced with a fixed bridge.

Unnecessary distinctions between tugs and tows and commercial and recreational vessels are removed in §§ 117.588(c), and 117.620(c).

References to clearance gauges in § 117.733(a) and § 117.949 are removed because they duplicate the requirements in 33 CFR 118.160. The Coast Guard is removing the reference to clearance gauges from §§ 117.733(a) and 117.949.

References to Federal, State, and local government vessels, emergency vessels or vessels in distress are removed from the following sections because they duplicate the requirements contained in § 117.31: §§ 117.181, 117.187(b), 117.195, 117.219(a), 117.221(a), 117.224(a), 117.225, 117.261(a), 117.269, 117.273(a) and (b), 117.287(a), 117.289, 117.291(a), 117.311, 117.313(a), 117.315(a) and (b), 117.317(a), 117.325(a), 117.353(a), 117.531(a)(1), 117.571(d), 117.573(c), 117.588(a), 117.605(c), 117.620(a), 117.703(a), 117.731(c), 117.736, 117.738(a)(2), 117.745(a)(1), 117.789(a), 117.791(a)(3), 117.797(a), 117.799(a), 117.824(a)(3), 117.843(a)(3), 117.892, 117.911(a), 117.968, 117.977, 117.993(a), 117.1023(b) and a portion of § 117.791(f)(4).

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. There will be no cost to the general public. This rule is to provide a more user-friendly part 117 that will remove redundancies and regulations that are no longer functional, make corrections and amendments, and provide clearer language for the user.

The new deviation would not have a significant effect on the economy. These requests for deviations will be reviewed by the District Commander or his/her delegee, taking waterway users and traffic into consideration.

Small Entities

Under the Regulatory Flexibility Act [5 U.S.C. 601-612], we considered whether this rulemaking would have a significant economic impact on a substantial number of small entities. The term “small entities” comprises small businesses, not-for-profit organizations that are independently owned and operated and are not dominant in their fields, and governmental jurisdictions with populations of less than 50,000. This rule will not disproportionately affect small entities since all vessels must be allowed to pass any bridge across the navigable waters of the United States reasonably free and unobstructed.

Also, most bridge owners comprise State governments and Local municipalities, as well as Railroads companies. In order to minimize the impact to small business, the Coast Guard requires a written request of no predefined length or format. Therefore, the Coast Guard certifies under 5 U.S.C. 605(b) that this final rule will not have a significant economic impact on a substantial number of small entities.

Assistance for Small Entities

Under section 213(a) of the Small Business Regulatory Enforcement Fairness Act of 1996 (Pub. L. 104-121), we offered to assist small entities in understanding the rule so that they could better evaluate its effects on them and participate in the rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for a collection of information under the Paperwork Reduction Act of 1995 (44 U.S.C. 3501-3520).

Under the provisions of 33 U.S.C. 499, the Secretary of Homeland Security is mandated to prescribe rules and regulations for governing the operation of drawbridges. This authorization was delegated to the Commandant of the Coast Guard under Department of Homeland Security Delegation Number 0170.1 and the drawbridge operating regulations are set out in 33 CFR Part 117.

Need for Information: To change any regulation, 5 U.S.C. 553 requires rulemaking to be published in the Federal Register. The information needed to change a drawbridge operating schedule can only be obtained from the bridge owners. The information collection requirements are contained in 33 CFR 33 CFR 117.8, 117.35, 117.36, 117.39, 117.40, and 117.42.

As required by 44 U.S.C. 3507(d), we submitted a copy of this rule to the Office of Management and Budget (OMB) for its review of the collection of information and OMB has approved the collection. The part number is 117 of title 33 and the corresponding approval number from OMB is OMB Control Number 1625-0109 which expires on September 30, 2008.

You are not required to respond to a collection of information unless it displays a currently valid OMB control number.

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not economically significant and does not concern an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e), of the Instruction from further environmental documentation. Promulgation of changes to drawbridge regulations has been found to not have significant effects on the human environment. Under figure 2-1, paragraph (32)(e), of the Instruction, an “Environmental Analysis Check List” and a “Categorical Exclusion Determination” are not required for this rule.

List of Subjects in 33 CFR Part 117

Bridges.

For the reasons set out in the preamble, the Coast Guard amends 33 CFR part 117 as follows:

PART 117—DRAWBRIDGE OPERATION REGULATIONS

1. Revise the authority citation for part 117 to read as follows:

Authority: 33 U.S.C. 499; 33 CFR 1.05-1(g); and Department of Homeland Security Delegation No. 0170.1.

2. Revise § 117.1 to read as follows:

§ 117.1 Purpose.

(a) This part prescribes the general and special drawbridge operating regulations that apply to the drawbridges across the navigable waters of the United States and its territories. The authority to regulate drawbridges across the navigable waters of the United States is vested in the Secretary of Homeland Security.

(b) Subpart A contains the general operation requirements that apply to all drawbridges.

(c) Subpart B contains specific requirements for operation of individual drawbridges. These requirements are in addition to or vary from the general requirements in Subpart A. Specific sections in subpart B that vary from a general requirement in Subpart A supersede the general requirement. All other general requirements in Subpart A, that are not at variance, apply to the drawbridges and removable span bridges listed in Subpart B.

§ 117.3 [Removed].

3. Remove § 117.3.

4. Revise § 117.4 to read as follows:

§ 117.4 Definitions.

The following definitions apply to this part:

Appurtenance means an attachment or accessory extending beyond the hull or superstructure that is not an integral part of the vessel and is not needed for a vessel's piloting, propelling, controlling, or collision avoidance capabilities.

Automated drawbridge means a drawbridge that is operated by an automated mechanism, not a drawtender. An automated drawbridge is normally kept in the open to navigation position and closes when the mechanism is activated.

Deviation means a District Commander's action authorizing a drawbridge owner to temporarily not comply with the drawbridge opening requirements in this part.

Drawbridge means a bridge with an operational span that is intended to be opened for the passage of waterway traffic.

Drawspan means the operational span of a drawbridge.

Lowerable means a non-structural vessel appurtenance that is or can be made flexible, hinged, collapsible, or telescopic so that it can be mechanically or manually lowered.

Nonstructural means that the item is not rigidly fixed to the vessel and can be relocated or altered.

Not essential to navigation means that a nonstructural vessel appurtenance, when in the lowered position, would not adversely affect the vessel's piloting, propulsion, control, or collision-avoidance capabilities.

Public vessel means a vessel that is owned and operated by the United States Government and is not engaged in commercial service, as defined in 46 U.S.C. 2101.

Remotely operated drawbridge means a drawbridge that is operated by remote control from a location away from the drawbridge.

Removable span bridge means a bridge that requires the complete removal of a span by means other than machinery installed on the bridge to open the bridge to navigation.

Untended means that there is no drawtender at the drawbridge.

5. Revise § 117.5 to read as follows:

§ 117.5 When the drawbridge must open.

Except as otherwise authorized or required by this part, drawbridges must open promptly and fully for the passage of vessels when a request or signal to open is given in accordance with this subpart.

6. Revise § 117.7 to read as follows:

§ 117.7 General requirements of drawbridge owners.

Except for drawbridges that have been authorized, before January 3, 2007, to remain closed to navigation or as otherwise specified in subpart B, drawbridge owners must:

(a) Provide the necessary drawtender(s) for the safe and prompt opening of the drawbridge.

(b) Maintain the working machinery of the drawbridge in good operating condition.

(c) Cycle the drawspan(s) periodically to ensure operation of the drawbridge.

(d) Ensure that the drawbridge operates in accordance with the requirements of this part.

(e) Any drawbridge allowed to remain closed to navigation prior to January 3, 2007, when necessary, must be returned to operable condition within the designated time set forth by the District Commander and will become subject to the requirements of this part.

7. Add § 117.8 to read as follows:

§ 117.8 Permanent changes to drawbridge operation.

(a) Anyone may submit a written request to the District Commander for a permanent change to a drawbridge operating requirement. The request must include documentation supporting or justifying the requested change.

(b) If after evaluating the request, the District Commander determines that the requested change is not needed, he or she will respond to the request in writing and provide the reasons for denial of the requested change.

(c) If the District Commander decides that a change may be needed, he or she will begin a rulemaking to implement the change.

§ 117.15 [Amended].

8. In § 117.15 remove the Note following paragraph (d)(1).

9. In § 117.31 revise the section heading and paragraph (a) to read as follows:

§ 117.31 Drawbridge operations for emergency vehicles and emergency vessels.

(a) Upon receiving notification that an emergency vehicle is responding to an emergency situation, a drawtender must make all reasonable efforts to have the drawspan closed at the time the emergency vehicle arrives.

* * * * *

10. Revise § 117.35 to read as follows:

§ 117.35 Temporary change to a drawbridge operating schedule.

(a) For any temporary change to the operating schedule of a drawbridge, lasting less than or equal to 180 days, the District Commander may issue a deviation approval letter to the bridge owner and publish a “Notice of deviation from drawbridge regulation” in the Federal Register.

(b) If the time period for a temporary change to the operating schedule of a drawbridge will be greater then 180 days, the District Commander will follow appropriate rulemaking procedures and publish a temporary rule in the Federal Register prior to the start of the action.

(c) Request for change. (1) To temporarily change the drawbridge-operating requirements the bridge owner must submit a written request to the District Commander for approval of the change.

(2) The request must describe the reason for the closure and the dates and times scheduled for the start and end of the change.

(3) Requests should be submitted as early as possible, preferably 90 days before the start of the action. District Commanders have discretion to accept requests submitted less than 90 days before a needed change if those requests can be processed before the date of the needed change.

(d) Determination. The District Commander's determination to allow the schedule change is normally forwarded to the bridge owner within ten working days after receipt of the request. If the request is denied, the reasons for the denial will be set out in the District Commander's decision letter.

(e) The drawbridge must return to its regular operating schedule immediately at the end of the designated time period.

(f) If the authorized closure period for an event is broken into separate time periods on the same day or on consecutive days, the drawbridge must provide openings for navigation between the authorized closures.

(g) The District Commander will also announce the change to the operating schedule in the Local Notice to Mariners and other appropriate local media.

11. Add § 117.36 to read as follows:

§ 117.36 Closure of drawbridge for emergency repair.

(a) When a drawbridge unexpectedly becomes inoperable, or should be immediately rendered inoperable because of mechanical failure or structural defect, the drawbridge owner must notify the District Commander of the closure without delay and give the reason for the emergency closure of the drawbridge and an estimated time when the drawbridge will be returned to operating condition.

(b) The District Commander will notify mariners about the drawbridge status through Broadcast Notices to Mariners, Local Notice to Mariners and any other appropriate local media.

(c) Repair work under this section must be performed with all due speed in order to return the drawbridge to operation as soon as possible.

§ 117.37 [Removed]

12. Remove § 117.37.

13. Revise § 117.39 to read as follows:

§ 117.39 Authorized closure of drawbridge due to infrequent requests for openings.

(a) When there have been no requests for drawbridge openings for at least two years, a bridge owner may request in writing that the District Commander authorize the drawbridge to remain closed to navigation and to be untended.

(b) The District Commander may:

(1) Authorize the closure of the drawbridge;

(2) Set out any conditions in addition to the requirement in paragraph (d): and

(3) Revoke an authorization and order the drawbridge returned to operation when necessary.

(c) All drawbridges authorized to remain closed to navigation, under this section, must be maintained in operable condition.

(d) Authorization under this section does not:

(1) Authorize physical changes to the drawbridge structure, or

(2) Authorize removal of the operating machinery.

(e) Drawbridges authorized under this section to remain closed to navigation and to be untended are identified in subpart B of this part.

14. Add § 117.40 to read as follows:

§ 117.40 Advance notice for drawbridge opening.

(a) Upon written request by the owner of a drawbridge, the District Commander may authorize a drawbridge to operate under an advance notice for opening. The drawbridge tender, after receiving the advance notice, must open the drawbridge at the requested time and allow for a reasonable delay in arrival of the vessel giving the advance notice.

(b) If the request is approved, a description of the advanced notice for the drawbridge will be added to subpart B of this part.

15. Revise § 117.41 to read as follows:

§ 117.41 Maintaining drawbridges in the fully open position.

(a) Drawbridges permanently maintained in the fully open to navigation position may discontinue drawtender service as long as the drawbridge remains fully open to navigation. The drawbridge must remain in the fully open position until drawtender service is restored.

(b) If a drawbridge is normally maintained in the fully open to navigation position, but closes to navigation for the passage of pedestrian, vehicular, rail, or other traffic, the drawbridge must be tended unless:

(1) Special operating requirements are established in subpart B of this part for that drawbridge; or

(2) The drawbridge is remotely operated or automated.

16. Add § 117.42 to read as follows:

§ 117.42 Remotely operated and automated drawbridges.

(a) Upon written request by the owner of a drawbridge, the District Commander may authorize a drawbridge to operate under an automated system or from a remote location.

(b) If the request is approved, a description of the full operation of the remotely operated or automated drawbridge will be added to subpart B of this part.

§§ 117.43 and 117.45 [Removed]

17. Remove §§ 117.43 and 117.45.

18. Revise § 117.51 to read as follows:

Subpart B—Specific Requirements

§ 117.51 General.

The drawbridges in this subpart are listed by the state in which they are located and by the waterway they cross. Waterways are arranged alphabetically by state. The drawbridges listed under a waterway are generally arranged in order from the mouth of the waterway moving upstream. The drawbridges on the Atlantic Intracoastal Waterway are listed from north to south and on the Gulf Intracoastal Waterway from east to west.

§ 117.53 [Removed].

19. Remove § 117.53.

20. In § 117.55 revise paragraph (a) to read as follows:

§ 117.55 Posting of requirements.

(a) The owner of each drawbridge under this subpart, other than removable span bridges, must ensure that a sign summarizing the requirements in this subpart applicable to the drawbridge is posted both upstream and downstream of the drawbridge. The requirements to be posted need not include those in Subpart A or §§ 117.51 through 117.59 of this part.

* * * * *

§ 117.57 [Removed].

21. Remove § 117.57.

22. Revise § 117.145 to read as follows:

§ 117.145 Burns Cutoff.

The drawspan for the Daggett Road Drawbridge, mile 3.0 at Stockton, must open on signal if at least 48 hours notice is given to the Port of Stockton.

23. Revise § 117.155 to read as follows:

§ 117.155 Eureka Slough.

The drawspan for the Northwestern Pacific Railroad Authority Drawbridge, mile 0.3 at Eureka, need not be opened for the passage of vessels. The owner or agency controlling the drawbridge must restore the drawspan to full operation within six months of notification from the District Commander.

24. Revise § 117.165 to read as follows:

§ 117.165 Lindsey Slough.

The center drawspan of the Hastings Farms Highway Bridge, mile 2.0 between Egbert and Lower Hastings Tracts, must be removed for the passage of vessels if at least 72 hours notice is given to the Hastings Island Land Company office at Rio Vista.

§ 117.181 [Amended].

25. In § 117.181 remove the last sentence of the section.

§ 117.187 [Amended].

26. In § 117.187 remove the last sentence in paragraph (b).

27. Revise § 117.193 to read as follows:

§ 117.193 San Leandro Bay.

The drawspans of the California Department of Transportation Highway and Bicycle drawbridges, mile 0.0 and mile 0.1, between Alameda and Bay Farm Island, must open on signal; except that, from 5 a.m. to 8 a.m. and 5 p.m. to 9 p.m., the drawspans must open on signal if at least 12 hours notice is given. Notice must be given to the drawtender of the Bay Farm Island drawbridges from 8 a.m. to 5 p.m. and to the drawtender of the Park Street Drawbridge at Alameda at all other times. The drawspans need not be opened for the passage of vessels from 9 p.m. to 5 a.m.

§ 117.195 [Amended].

28. In § 117.195 remove the last sentence in this section.

29. In § 117.219 revise paragraph (a) to read as follows:

§ 117.219 Pequonnock River.

(a) Public vessels of the United States must be passed through as soon as possible.

* * * * *

30. In § 117.221 revise paragraph (a) to read as follows:

§ 117.221 Saugatuck River.

(a) Public vessels of the United States must be passed through as soon as possible.

* * * * *

31. In § 117.224 revise paragraph (a) to read as follows:

§ 117.224 Thames River.

* * * * *

(a) Immediately on signal for public vessels of the United States and commercial vessels; except, when a train scheduled to cross the drawbridge, without stopping, has passed the Midway, Groton, or New London stations and is in motion toward the drawbridge, the drawspan must not be opened for the passage of any vessel until the train has crossed the drawbridge; and

* * * * *

32. Revise § 117.225 to read as follows:

§ 117.225 Yellow Mill Channel.

The drawspan of the Stratford Avenue Bridge, mile 0.3 at Bridgeport, must open on signal if at least 24-hours notice is given. Public vessels of the United States must pass through as soon as possible.

33. In § 117.255 add paragraph (d) to read as follows:

§ 117.255 Potomac River.

* * * * *

(c) This section is also issued under the authority of Pub. L. 102-587, 106 Stat. 5039.

34. In § 117.261 revise paragraph (a) to read as follows:

§ 117.261 Atlantic Intracoastal Waterway from St. Marys River to Key Largo.

(a) General. Public vessels of the United States and tugs with tows must be passed through the drawspan of each drawbridge listed in this section at anytime.

* * * * *

35. Revise § 117.269 to read as follows:

§ 117.269 Biscayne Bay.

The east drawspan of the Venetian Causeway Drawbridge, between Miami and Miami Beach, must open on signal; except that, from November 1 through April 30 from 7:15 a.m. to 8:45 a.m. and 4:45 p.m. to 6:15 p.m. Monday through Friday, the draw need not be opened. However, the drawspan must open at 7:45 a.m., 8:15 a.m., 5:15 p.m., and 5:45 p.m. if any vessels are waiting to pass. The drawspan must open on-signal on Thanksgiving Day, Christmas Day, New Year's Day, and Washington's Birthday. The drawspan must open at anytime for public vessels of the United States and tugs with tows.

§ 117.271 [Amended]

36. In § 117.271 remove paragraph (b) and remove the paragraph designator from paragraph (a).

37. Revise § 117.273 to read as follows:

§ 117.273 Canaveral Barge Canal.

(a) The drawspan of the Christa McAuliffe Drawbridge, SR 3, mile 1.0, across the Canaveral Barge Canal need only open daily for vessel traffic on the hour and half-hour from 6 a.m. to 10 p.m.; except that from 6:15 a.m. to 8:15 a.m. and from 3:10 p.m. to 5:59 p.m., Monday through Friday, except Federal holidays, the drawspan need not open. From 10:01 p.m. to 5:59 a.m., everyday, the drawspan must open on signal if at least 3 hours notice is given to the drawtender. The drawspan must open as soon as possible for the passage of public vessels of the United States and tugs with tows.

(b) The drawspan of the SR401 Drawbridge, mile 5.5 at Port Canaveral, must open on signal; except that, from 6:30 a.m. to 8 a.m. and 3:30 p.m. to 5:15 p.m. Monday through Friday except Federal holidays, the drawspan need not be opened for the passage of vessels. From 10 p.m. to 6 a.m., the drawspan must open on signal if at least three hours notice is given. The drawspan must open as soon as possible for the passage of pubic vessels of the United States and tugs with tows.

§ 117.277 [Removed]

38. Remove § 117.277.

39. In § 117.287 revise paragraph (a) to read as follows:

§ 117.287 Gulf Intracoastal Waterway.

(a) Public vessels of the United States and tugs with tows must be passed through the drawspan of each drawbridge listed in this section at anytime.

* * * * *

40. Revise § 117.289 to read as follows:

§ 117.289 Hillsboro Inlet.

The drawspans of the SR A-1-A Drawbridge, mile 0.3 at Hillsboro Beach, must open on signal; except that, from 7 a.m. to 6 p.m., the drawspans need be opened only on the hour, quarter hour, half hour, and three quarter hour. Public vessels of the United States and tugs with tows must be passed at anytime.

41. In § 117.291 revise paragraph (a) to read as follows:

§ 117.291 Hillsborough River.

(a) The drawspans for the drawbridges at Platt Street, mile 0.0, Brorein Street, mile 0.16, Kennedy Boulevard, mile 0.4, Cass Street, mile 0.7, Laurel Street, mile 1.0, West Columbus Drive, mile 2.3, and West Hillsborough Avenue, mile 4.8, must open on signal if at least two hours notice is given; except that, the drawspan must open on signal as soon as possible for public vessels of the United States.

* * * * *

42. Revise § 117.311 to read as follows:

§ 117.311 New Pass.

The drawspan for the State Road 789 Drawbridge, mile 0.05, at Sarasota, need only open on the hour, twenty minutes past the hour, and forty minutes past the hour from 7 a.m. to 6 p.m. From 6 p.m. to 7 a.m., the drawspan must open on signal if at least 3 hours notice is given to the drawtender. Public vessels of the United States and tugs with tows must be passed at anytime.

43. In § 117.313 revise paragraph (a) to read as follows:

§ 117.313 New River.

(a) The drawspan for the S.E. Third Avenue Drawbridge, mile 1.4 at Fort Lauderdale, must open on signal; except that, from 7:30 a.m. to 8:30 a.m. and 4:30 p.m. to 5:30 p.m. Monday through Friday, excluding Saturday, Sunday, and all federal, state, and local holidays, the drawspan need not be opened for the passage of vessels. Public vessels of the United States and tugs with tows must be passed at anytime.

* * * * *

44. Revise § 117.315 to read as follows:

§ 117.315 New River, South Fork.

(a) The drawspan for the Southwest 12th Street Drawbridge, mile 0.9 at Fort Lauderdale, must open on signal; except that, from 7:30 a.m. to 8:30 a.m. and 4:30 p.m. to 5:30 p.m. Monday through Friday, excluding Saturday, Sunday, and federal, state, and local holidays, the drawspan need not be opened for the passage of vessels. Public vessels of the United States and tugs with tows must be passed through the draw as soon as possible.

(b) The drawspan for the SR84 Drawbridge, mile 4.4 at Fort Lauderdale, must open on signal if at least 24 hours notice is given. Public vessels of the United States and tugs with tows must be passed through the draw as soon as possible.

45. In § 117.317 revise paragraph (a) to read as follows:

§ 117.317 Okeechobee Waterway.

(a) Exempt vessels. This term means public vessels of the United States and tugs with tows.

* * * * *

46. In § 117.325 revise paragraph (a) to read as follows:

§ 117.325 St. Johns River.

(a) The drawspan for the Main Street (US17) drawbridge, mile 24.7, at Jacksonville, must open on signal except that, from 7 a.m. to 8:30 a.m. and from 4:30 p.m. to 6 p.m., Monday through Saturday except Federal holidays, the drawspan need not be opened for the passage of vessels.

* * * * *

47. In § 117.353 revise paragraph (a) to read as follows:

§ 117.353 Atlantic Intracoastal Waterway, Savannah River to St. Marys River.

(a) General. Public vessels of the United States and tugs with tows must, upon proper signal, be passed through the drawspan of each drawbridge in this section at anytime.

* * * * *

§§ 117.486 through 117.488 [Redesignated]

48. Redesignate §§ 117.486 through 117.488 as follows:

Old section | New section
117.486 | 117.487
117.487 | 117.488
117.488 | 117.486

49. In § 117.531 revise paragraph (a)(1) to read as follows:

§ 117.531 Piscataqua River.

(a) * * *

(1) Public vessels of the United States, commercial vessels over 100 gross tons, inbound ferry service vessels and inbound commercial fishing vessels must be passed through the drawspan of each drawbridge as soon as possible. The opening signal from these vessels is four or more short blasts of a whistle, horn or a radio request.

* * * * *

§ 117.535 [Removed]

50. Remove § 117.535.

51. In § 117.571 revise paragraph (d) to read as follow:

§ 117.571 Spa Creek.

* * * * *

(d) The drawspan must always open on signal for public vessels of the United States.

52. In § 117.573 revise paragraph (c) to read as follows:

§ 117.573 Stoney Creek.

* * * * *

(c) Public vessels of the United States must be passed as soon as possible.

53. In § 117.588 revise paragraphs (a) and (c) to read as follows:

§ 117.588 Bass River.

* * * * *

(a) Public vessels of the United States must be passed as soon as possible.

* * * * *

(c) That the drawspan for the Hall Whitaker Drawbridge must open on signal if at least 24 hours notice is given.

54. In § 117.605 revise paragraph (c) to read as follows:

§ 117.605 Merrimack River.

* * * * *

(c) The drawspans for the Massachusetts Department of Public Works drawbridges, mile 5.8 at Newburyport and mile 12.6 at Rock Village, and Groveland Drawbridge, mile 16.5 at Groveland, must open on signal if at least two hours notice is given. Public vessels of the United States must be passed through the drawspans as soon as possible.

55. In § 117.620 revise paragraphs (a) and (c) to read as follows:

§ 117.620 Westport River—East Branch.

(a) Public vessels of the United States must be passed as soon as possible.

* * * * *

(c) That the drawspan for the Westport Point Drawbridge, mile 1.2 at Westport, must open on signal if at least 24 hours notice is given.

56. Revise § 117.683 to read as follows:

§ 117.683 Pearl River.

See § 117.486, Pearl River, listed under Louisiana.

57. In § 117.703 revise paragraph (a) to read as follows:

§ 117.703 Bass River.

* * * * *

(a) The drawspan must open on signal if at least six hours notice is given, except that public vessels of the United States must be passed as soon as possible.

* * * * *

58. In § 117.713 revise paragraph (a) to read as follows:

§ 117.713 Cooper River.

(a) The drawspans for the State Street Drawbridge, mile 0.3 and the Conrail Drawbridge at North River Avenue, mile 0.9, must open on signal if at least four hours notice is given.

* * * * *

§ 117.731 [Redesignated as § 117.730].

59. Redesignate § 117.731 as § 117.730.

§ 117.731a [Redesignate as § 117.731 and Amend].

60. Redesignate § 117.731a as § 117.731 and in newly redesignated § 117.731, revise paragraph (c) to read as follows:

§ 117.731 Mullica River.

* * * * *

(c) The drawspan must open as soon as possible for public vessels of the United States during the periods when four hours notice is required.

§ 117.733 [Amended]

61. In § 117.733 remove paragraph (a) and redesignate paragraphs (b) through (j) as paragraphs (a) through (i) respectively.

62. Revise § 117.736 to read as follows:

§ 117.736 Oceanport Creek.

The drawspan for the New Jersey Transit Rail Operations Drawbridge, mile 8.4 near Oceanport, must open on signal from May 15 through September 15 between 5 a.m. and 9 p.m.; except that, the drawspan need not open 6 a.m. to 7:45 a.m. and 5:30 p.m. to 7:30 p.m on weekdays, excluding all federal holidays except for Martin Luther King Day. The drawspan must open on signal upon four hours notice from May 15 through September 15 between 9 p.m. and 5 a.m., and from September 16 through May 14; except that, the drawspan need not be opened from 6 a.m. to 7:45 a.m. and 5:30 p.m. to 7:30 p.m. on weekdays, excluding all federal holidays except for Martin Luther King Day. Public vessels of the United States must be passed as soon as possible at anytime.

63. In § 117.738 revise paragraph (a)(2) to read as follows:

§ 117.738 Overpeck Creek.

(a)* * *

(2) Public vessels of the United States must be passed through the drawspan of each drawbridge as soon as possible.

* * * * *

§ 117.739 [Amended]

64. In § 117.739 remove paragraphs (o) and (p)(2); redesignate paragraph (p)(3) as (p)(2) and redesignate (p) as (o).

65. In § 117.745 revise paragraphs (a)(1) and (b), introductory text, to read as follows:

§ 117.745 Rancocas River (Creek).

(a) * * *

(1) Public vessels of the United States must be passed through the drawspan of each drawbridge as soon as possible without delay at anytime. The opening signal from these vessels is four or more short blasts of a whistle or horn, or a radio request.

* * * * *

(b) The drawspans for the SR#543 Drawbridge, mile 1.3 at Riverside and the SR#38 Drawbridge, mile 7.8 at Centerton, must operate as follows:

* * * * *

§ 117.775 [Removed]

66. Remove § 117.775.

§ 117.783 [Removed]

67. Remove § 117.783.

68. In § 117.789, revise paragraph (a) to read as follows:

§ 117.789 Harlem River.

(a) The drawspan of each drawbridge across the Harlem River, except the Spuyten Duyvil Railroad Drawbridge, need not be opened from 5 p.m. to 10 a.m. However, at all times, public vessels of the United States must be passed through the drawspan of each drawbridge, listed in this section, as soon as possible.

* * * * *

69. In § 117.791 remove paragraph (a)(3); redesignate paragraphs (a)(4) and (a)(5) as (a)(3) and (a)(4), respectively, and revise paragraph (f)(4) to read as follows:

§ 117.791 Hudson River.

* * * * *

(f) * * *

(4) During the period that the Federal Lock at Troy is inoperative, the drawspans need not be opened for the passage of vessels.

§ 117.795 [Amended]

70. In § 117.795, remove paragraph (c).

71. In § 117.797 revise paragraph (a) to read as follows:

§ 117.797 Lake Champlain.

(a) The drawspan for each drawbridge listed in this section must open as soon as possible for public vessels of the United States.

* * * * *

72. In § 117.799 revise paragraph (a) to read as follows:

§ 117.799 Long Island, New York Inland Waterway from East Rockaway Inlet to Shinnecock Canal.

(a) At all times, public vessels of the United States must be passed through the drawspan of each drawbridge listed in this section as soon as possible.

* * * * *

§ 117.821 [Amended]

73. In § 117.821 remove paragraph (a)(1) and redesignate (a)(2) through (a)(6) as (a)(1) through (a)(5) respectively.

74. In § 117.824 revise paragraph (a)(3) to read as follows:

§ 117.824 Neuse River.

(a) * * *

(3) Must always open on signal for public vessels of the United States.

* * * * *

75. In § 117.843 revise paragraph (a)(3) to read as follows:

§ 117.843 Trent River.

(a) * * *

(3) Must always open on signal for public vessels of the United States.

* * * * *

§ 117.867 [Removed]

76. Remove § 117.867.

§ 117.881 [Amended]

77. In § 117.881 remove paragraph (b) and paragraph designator (a) from the remaining text.

§ 117.885 [Removed]

78. Remove § 117.885.

§ 117.891 [Removed]

79. Remove § 117.891.

80. Revise § 117.892 to read as follows:

§ 117.892 South Slough.

The drawspan for the Oregon State Highway Drawbridge across South Slough at Charleston must open on signal for the passage of vessels, except that between the hours of 7 a.m. and 7 p.m., from June 1 through September 30, the drawspan need be opened only on the hour and half-hour. This exception does not apply to commercial tugs and/or tows or public vessels of the United States.

81. In § 117.911 revise paragraph (a) to read as follows:

§ 117.911 Atlantic Intracoastal Waterway, Little River to Savannah River.

(a) General. Public vessels of the United States and tugs with tows, upon proper signal, will be passed through the drawspan of each drawbridge listed in this section at anytime.

* * * * *

§ 117.949 [Amended]

82. In § 117.949 remove the last sentence of the section.

83. Revise § 117.968 to read as follows:

§ 117.968 Gulf Intracoastal Waterway.

The drawspan for the Port Isabel Drawbridge, mile 666.0, must open on signal; except that, from 5 a.m. to 8 p.m. on weekdays only, excluding federal, state, and local holidays, the drawspan need open only on the hour for pleasure craft. The drawspan must open on signal at anytime for commercial vessels. When the drawspan is open for a commercial vessel, waiting pleasure craft must be passed.

84. Revise § 117.977 to read as follows:

§ 117.977 Pelican Island Causeway, Galveston Channel.

The drawspan for the Pelican Island Causeway Drawbridge across Galveston Channel, mile 4.5 of the Galveston Channel, (GIWW mile 356.1) at Galveston, Texas, must open on signal; except that, from 6:40 a.m. to 8:10 a.m., 12 noon to 1 p.m., and 4:15 p.m. to 5:15 p.m. Monday through Friday except Federal holidays, the drawspan need not be opened for passage of vessels. Public vessels of the United States must be passed at anytime.

85. In § 117.993 revise paragraph (a) to read as follows:

§ 117.993 Lake Champlain.

(a) The drawspan for each of the drawbridges listed in this section must open as soon as possible for the passage of public vessels of the United States.

* * * * *

86. In § 117.1023 revise paragraph (b) to read as follows:

§ 117.1023 Pamunkey River.

* * * * *

(b) Public vessels of the United States must pass at anytime.

§ 117.1039 [Removed]

87. Remove § 117.1039.

Appendix A to Part 117 [Removed]

88. Remove Appendix A To Part 117.

Dated: November 13, 2006.
C.E. Bone,
Rear Admiral, U.S. Coast Guard, Assistant Commandant for Prevention.

[FR Doc. 06-9517 Filed 12-1-06; 8:45 am]

BILLING CODE 4910-15-U